NATIONAL SCIENCE FOUNDATION

Proposal Review Panel for Materials Research; Notice of Meeting

In accordance with the Federal Advisory Committee Act (Pub. L. 92-463, as amended), the National Science Foundation (NSF) announces the following meeting:

Name and Committee Code: Site visit review of Platform for the Accelerated Realization, Analysis, and Discovery of Interface Materials (PARADIM), a Materials Innovation Platform (MIP), at Cornell University (lead institution) and Johns Hopkins University by the NSF Division of Materials Research (DMR). (#1203)

Date and Time: July 14, 2022; 8:00 a.m.-8:00 p.m.; July 15, 2022; 8:00 a.m.-3:00 p.m.

Place: Johns Hopkins University, Bloomberg Center for Physics and Astronomy, 3701 San Martin Drive, Room 462, Baltimore, MD 21218.

Type of Meeting: Part-open.

Contact Person: Dr. Cosima Boswell-Koller, Program Director, Division of Materials Research, National Science Foundation, Room E9475, 2415 Eisenhower Avenue Alexandria, VA 22314, Telephone (703) 292-4959.

Purpose of Meeting: Site visit to provide advice and recommendations concerning further support of the MIP at Cornell University and Johns Hopkins University.

Agenda

Thursday, July 14, 2022

8:00 a.m.-9:15 a.m. Executive Session (Closed)

9:15 a.m.-11:30 a.m. Review of PARADIM MIP

11:30 a.m.-1:00 p.m. Executive Session (Closed)

1:00 p.m.-4:00 p.m. Review of PARADIM MIP

4:00 p.m.-8:00 p.m. Executive Session (Closed)

Friday, July 15, 2022

8:00 a.m.-3:00 p.m. Executive Session (Closed)

Reason for Closing: The work being reviewed during closed portions of the site review includes information of a proprietary or confidential nature, including technical information; financial data, such as salaries and personal information concerning individuals associated with PARADIM/MIP. These matters are exempt under 5 U.S.C. 552b(c), (4) and (6) of the Government in the Sunshine Act.

Dated: June 10, 2022.
Crystal Robinson,
Committee Management Officer.

[FR Doc. 2022-12903 Filed 6-14-22; 8:45 am]

BILLING CODE 7555-01-P